DEPARTMENT OF COMMERCE

National Oceanic and Atmospheric Administration

RIN 0648-XD13

Advisory Committee to the U.S. Section of the International Commission for the Conservation of Atlantic Tunas (ICCAT); Fall Meeting

AGENCY: National Marine Fisheries Service (NMFS), National Oceanic and Atmospheric Administration (NOAA), Commerce.

ACTION: Notice of meeting.

SUMMARY: In preparation for the 2007 International Commission for the Conservation of Atlantic Tunas (ICCAT) meeting, the Advisory Committee to the U.S. Section to the ICCAT will meet in October 2007.

DATES: The meeting will be held October 18-19, 2007. There will be an open session the morning of Thursday October 18, 2007, beginning at 8:30 a.m. thru 12 p.m. The remainder of the meeting will be closed to the public. Oral and written comments can be presented during the public comment session on October 18, 2006. Mailed written comments on issues being considered at the meeting should be received no later than October 12, 2007.

ADDRESSES: The meeting will be held at the Crowne Plaza Hotel, 8777 Georgia Avenue, Silver Spring, MD 20910. Written comments should be sent to Kelly Denit at NOAA Fisheries Office of International Affairs, Room 12622, 1315 East-West Highway, Silver Spring, MD 20910.

FOR FURTHER INFORMATION CONTACT: Kelly Denit, Office of International Affairs, 301-713-2276.

SUPPLEMENTARY INFORMATION: The Advisory Committee to the U.S. Section to ICCAT will meet in open session on October 18. The Advisory Committee will receive management and research related information on the stock status of highly migratory species, including management recommendations of ICCAT's Standing Committee on Research and Statistics. There will be an opportunity for oral public comment during the October 18, 2007, open session. Written comments may also be submitted at the October 18 open session or by mail. If mailed, written comments should be received by October 12, 2007 (see ADDRESSES).

During its fall meeting, the Advisory Committee will also hold two executive sessions that are closed to the public. The first executive session will be held on October 18, 2007, and a second executive session will be held on October 19, 2007. The purpose of these sessions is to discuss sensitive information relating to upcoming international negotiations.

Special Accommodations

The meeting locations are physically accessible to people with disabilities. Requests for sign language interpretation or other auxiliary aids should be directed to Kelly Denit at (301) 713-2276 by at least 5 days prior to the meeting date.

Dated: October 1, 2007.
Rebecca J. Lent
Director, Office of International Affairs, National Marine Fisheries Service.

[FR Doc. E7-19718 Filed 10-4-07; 8:45 am]

BILLING CODE 3510-22-S